DEPARTMENT OF ENERGY

Office of Arms Control and Nonproliferation; Proposed Subsequent Arrangement

AGENCY: Department of Energy.

ACTION: Subsequent arrangement.

SUMMARY: This notice has been issued under the authority of section 131 of the Atomic Energy Act of 1954, as amended (42 U.S.C. 2160). The Department is providing notice of a proposed “subsequent arrangement” under the Agreement for Cooperation Concerning Civil Uses of Atomic Energy between the United States and Canada and Agreement for Cooperation in the Peaceful Uses of Nuclear Energy between the United States and the European Atomic Energy Community (EURATOM).

This subsequent arrangement concerns the retransfer of 110,436 kg of U.S.-origin natural uranium in the form of uranium hexafluoride, 74,655 kg of which is uranium, from the Cameco Corporation, Ontario, Canada to Urenco Capenhurst, England. The material, which is now located at Cameco Corp., Port Hope, Ontario, will be transferred to Urenco for toll enrichment. Upon completion of the toll enrichment, the material will be transferred to the Wolf Creek Nuclear Operating Corp., Burlington, KS for use as fuel. The uranium hexafluoride was originally obtained by the Cameco Corp. pursuant to export license number XSOU8744.

In accordance with section 131 of the Atomic Energy Act of 1954, as amended, we have determined that this subsequent arrangement is not inimical to the common defense and security.

This subsequent arrangement will take effect no sooner than fifteen days after the date of publication of this notice.

Dated: May 21, 2001.
For the Department of Energy.
Trisha Dedik,
Director, International Policy and Analysis for Arms Control and Nonproliferation, Office of Defense Nuclear Nonproliferation.

[FR Doc. 01-13247 Filed 5-24-01; 8:45 am]

BILLING CODE 6450-01-P